DEPARTMENT OF THE TREASURY

Office of the Comptroller of the Currency

Agency Information Collection Activities: Information Collection Renewal; Comment Request; CRA Information Collection Survey

AGENCY: Office of the Comptroller of the Currency (OCC), Treasury.

ACTION: Notice and request for comment.

SUMMARY: The OCC, as part of its continuing effort to reduce paperwork and respondent burden, invites the general public and other Federal agencies to comment on a the renewal of an information collection, as required by the Paperwork Reduction Act of 1995 (PRA). An agency may not conduct or sponsor, and a respondent is not required to respond to, an information collection unless it displays a currently valid Office of Management and Budget (OMB) control number. The OCC is soliciting comment concerning the renewal of its information collection titled, “CRA Information Collection Survey”.

DATES: Comments must be submitted by February 16, 2021.

ADDRESSES: Commenters are encouraged to submit comments by email, if possible. You may submit comments by any of the following methods:

• Email: prainfo@occ.treas.gov.

• Mail: Chief Counsel's Office, Attention: Comment Processing, 1557-0348, Office of the Comptroller of the Currency, 400 7th Street SW, Suite 3E-218, Washington, DC 20219.

• Hand Delivery/Courier: 400 7th Street SW, Suite 3E-218, Washington, DC 20219.

• Fax: (571) 465-4326.

Instructions: You must include “OCC” as the agency name and “1557-0348” in your comment. In general, the OCC will publish comments on www.reginfo.gov without change, including any business or personal information provided, such as name and address information, email addresses, or phone numbers. Comments received, including attachments and other supporting materials, are part of the public record and subject to public disclosure. Respondents may designate information as confidential or request confidential treatment. The OCC will treat confidential commercial information submitted to the agency in accordance with 12 CFR 4.16 consistent with Food Marketing Institute v. Argus Leader Media, 139 S.Ct. 2356, 2363 (2019) and applicable guidance issued by the Department of Justice at https://www.justice.gov/oip/step-step-guidedetermining-if-commercial-or-financialinformation-obtained-personconfidential. The OCC may aggregate the information, use the aggregated information, and make the aggregated information public.

You may review comments and other related materials that pertain to this information collection beginning on the date of publication of the second notice for this collection ¹ by the following method:

¹ Following the close of this notice's 60-day comment period, the OCC will publish a second notice with a 30-day comment period.

• Viewing Comments Electronically: Go to www.reginfo.gov. Click on the “Information Collection Review” tab. Underneath the “Currently under Review” section heading, select “Department of Treasury” from the drop-down menu, and then click “submit.” This information collection can be located by searching with the OMB control number “1557-0348” or “CRA Information Collection Survey.” Upon finding the appropriate information collection, click on the related “ICR Reference Number.” On the next screen, select “View Supporting Statement and Other Documents,” and then click on the link to any comment listed at the bottom of the screen.

• For assistance in navigating www.reginfo.gov, please contact the Regulatory Information Service Center at (202) 482-7340.

FOR FURTHER INFORMATION CONTACT: Shaquita Merritt, Clearance Officer, (202) 649-5490, Chief Counsel's Office, Office of the Comptroller of the Currency, 400 7th Street SW, Washington, DC 20219.

SUPPLEMENTARY INFORMATION: Under the PRA (44 U.S.C. 3501 et seq.), Federal agencies must obtain approval from the OMB for each collection of information that they conduct or sponsor. “Collection of information” is defined in 44 U.S.C. 3502(3) and 5 CFR 1320.3(c) to include agency requests or requirements that members of the public submit reports, keep records, or provide information to a third party. Section 3506(c)(2)(A) of the PRA (44 U.S.C. 3506(c)(2)(A)) requires Federal agencies to provide a 60-day notice in the Federal Register concerning each proposed collection of information, including each proposed extension of an existing collection of information, before submitting the collection to OMB for approval. To comply with this requirement, the OCC is publishing notice of the renewal of the following collection of information set forth in this document. OMB provided emergency clearance for the collection on November 25, 2020.

Title: CRA Information Collection Survey.

OMB Control No.: 1557-0348.

Affected Public: Businesses or other for-profit.

Type of Review: Renewal.

Abstract: On June 5, 2020, the OCC published a final rule in the Federal Register that makes comprehensive changes to the Community Reinvestment Act (CRA) regulatory framework designed to ensure that the CRA remains a relevant and powerful tool for encouraging banks to serve the needs of their communities, particularly low- or moderate-income (LMI) neighborhoods, consistent with banks' safe and sound operations.² As the final rule describes, the agency modernized and strengthened the CRA regulatory framework to better achieve the underlying statutory purpose of encouraging banks to help serve their communities by making the framework more objective, transparent, consistent, and easy to understand. To accomplish these goals, the final rule strengthened the CRA regulations in four key areas by (1) clarifying which activities qualify for CRA credit; (2) updating where activities count for CRA credit; (3) creating a more consistent and objective method for measuring CRA performance; and (4) providing for more timely and transparent CRA-related data collection, recordkeeping, and reporting.

² 85 FR 34734 (June 5, 2020).

The final rule provided a new evaluation framework (i.e., the general performance standards) for banks with assets of $2.5 billion or more that are not wholesale or limited purpose banks and do not operate under an approved strategic plan.³ However, the final rule did not provide the CRA evaluation measure benchmarks, retail lending distribution test thresholds, and community development (CD) minimums under the general performance standards. The OCC plans to determine these benchmarks, thresholds, and minimums through separate rulemaking. In order to calibrate the benchmarks, thresholds, and minimums, the OCC seeks information to assist in determining current and historical levels of CRA activity. Specifically, this information collection seeks bank-specific data and information to supplement available data. This information collection applies only to banks with assets of $2.5 billion or more that are subject to the general performance standards under the CRA final rule.

³ Under § 25.10(a)(2) and (3) of the final rule, small, intermediate, wholesale, and limited purpose banks may opt into the general performance standards.

Information Collection

The OCC seeks information to assist in determining the CRA evaluation measure benchmarks, retail lending distribution test thresholds, and CD minimums under the final rule that will correspond to the presumptive ratings. As discussed in the Supplementary Information section to the final rule, the OCC analyzed currently available data to estimate how banks would have performed under the proposed rule's framework.⁴ The final rule did not finalize the benchmarks, thresholds, or minimums as proposed. Instead, as explained in the Supplementary Information section to the final rule, the OCC plans to issue a separate notice of proposed rulemaking to determine the benchmarks, thresholds, and minimums that will correspond to the presumptive ratings in the final rule.

⁴ 85 FR 34734, 34773.

This information collection seeks bank-specific data and information to supplement the agency's analyses and currently available data. Specifically, it requests four types of bank data or information: (1) Retail domestic deposit and assessment area data; (2) qualifying activities data; (3) branch information; and (4) retail loan application and origination data. The data should contain information from January 1, 2017, to December 31, 2019. The final rule provides additional information (e.g., definitions, qualifying activities criteria, etc.) to inform what is requested below.

Respondents must answer all of the questions below. If a respondent does not have the data available, the respondent must submit a separate statement that explains the reason(s) the respondent does not have the data requested. If a respondent has significant difficulty in submitting any of the data requested, the OCC will work with the respondent through the appropriate supervisory channels in order to help the respondent comply with this information collection to the extent possible.

All information should be in a comma delimited file, using the same nomenclature as in the data name field, and dollar values should be in 1000s without any comma separators (e.g., $5,000,000 should be reported as 5000, not 5,000).

Standard Federal Information Processing Standards (FIPS) codes should be used for geographic data, and the following codes should be used, unless otherwise instructed:

• -99—Information not available

• -98—Not applicable (e.g., geographic area is not part of a facility-based assessment area)

• -99999—Not part of a metropolitan statistical area (MSA)

For each subsection of this information collection, we first describe the data elements requested and then illustrate how the data should be formatted in a table immediately following the text.

Retail Domestic Deposit and Assessment Area Data

A bank's main office, branch, and deposit-taking facility locations and retail domestic deposit data are required to determine its assessment area delineations, performance under the general performance standards, and presumptive ratings in §§ 25.09 through 25.13 of the final rule. The following data will supplement existing data and assist the OCC.

1. What is the bank's total amount of retail domestic deposits received, by county, for each quarter-end? As defined in § 25.03 of the final rule, retail domestic deposits include deposits, as that term is defined in section 3(I) of the Federal Deposit Insurance Act (12 U.S.C. 1813(I)) that are reported on Schedule RC-E, item 1 or item 3, of the Call Report or that are non-brokered “reciprocal deposits” as defined in 12 U.S.C. 1831(f)(i)(2)(E) for the institution sending the non-brokered “reciprocal deposits.” However, retail domestic deposits do not include deposits that are: (1) Obtained, directly or indirectly, from or through the mediation or assistance of a “deposit broker” as that term is defined in section 29 of the Federal Deposit Insurance Act (12 U.S.C. 1831f(g)); (2) originated from an affiliated or non-affiliated broker-dealer sweep transaction; (3) held in a Health Savings Account established in accordance with 26 U.S.C. 223; (4) held in a prepaid card account established in accordance with 12 CFR 1005.1 et seq.; or (5) non-brokered reciprocal deposits as defined in 12 U.S.C. 1831(f)(i)(2)(E) for the institution receiving a non-brokered “reciprocal deposit.” The county should be assigned based on the accountholder's physical address, not the location of the branch that accepted the deposit.

2. Assign and provide a unique numerical identification (ID) to each facility-based or deposit-based assessment area, as defined in the final rule. As discussed in § 25.09(b) of the final rule, a bank must delineate facility-based assessment areas encompassing the location where the bank maintains its main office, branches, or non-branch deposit-taking facilities, other than deposit-taking automated teller machines (ATMs),⁵ as well as the surrounding locations in which the bank has originated or purchased a substantial portion of its loans. A bank also may, but is not required to, delineate facility-based assessment areas based on its deposit-taking ATMs.⁶ Branch, ATM, and non-branch deposit-taking facility are defined in § 25.03 of the final rule. Facility-based assessment areas will be comprised of one of the following: (1) A whole MSA; (2) the whole nonmetropolitan area of a state; (3) one or more whole, contiguous metropolitan divisions (MD) in a single MSA; or (4) one or more whole, contiguous counties or county equivalents in a single MSA or nonmetropolitan area. Under § 25.09(c) of the final rule, a bank that receives 50 percent or more of its retail domestic deposits from geographic areas outside of its facility-based assessment areas must delineate separate, non-overlapping assessment areas where it receives five percent or more of its retail domestic deposits. Deposit-based assessment areas will be comprised of one of the following: (1) A whole state; (2) one whole MSA; (3) the whole nonmetropolitan area of a state; (4) one or more whole, contiguous MDs in a single MSA; (5) the remaining geographic area of a state, MSA, nonmetropolitan area, or MD other than where it has a facility-based assessment area; or (6) one or more whole, contiguous counties or county equivalents in a single MSA or nonmetropolitan area.

⁵ Section 25.09(b)(1) of the final rule allows these assessment areas to include one or more of these facilities, as well as deposit-taking ATMs.

⁶ Assessment areas delineated based on the location of a deposit-taking ATM under § 25.09(b)(2) of the final rule may contain the bank's main office, branches, or other non-branch deposit taking facilities.

3. For the data above, provide county, MD/MSA, and state FIPS codes.

4. For the data above, report whether there is a main office, branch, deposit-taking ATM, and/or non-branch deposit-taking facility other than an ATM, as detailed in Table 1, Columns 5-8.

5. Are there burdens associated with collecting or reporting the data described in this section of this information collection?

Table 1, Columns 1-10—Deposit and Assessment Area Data by County, Quarter
Column | Data name | Format | Data definition | Comments
1 | COUNTY | String | County FIPS | County FIPS code (3-digit), e.g., report 201 if Harris County, TX. Use leading zeros if the FIPS code is less than 3-digit number.
2 | MD_MSA | String | MD/MSA | MD/MSA code (5-digit), e.g., report 26420 if Houston-The Woodlands-Sugar Land, TX.
3 | STATE | String | State FIPS | State FIPS code (2-digit), e.g., report 48 if Harris County, TX. Use leading zeros if the State FIPS code is less than a 2-digit number.
4 | AA_ID | String | Facility-based or deposit-based assessment area number | Numeric indicator, created by the bank, that uniquely identifies each facility-based or deposit-based assessment area. Use leading zeros if the assessment area is less than a 3-digit number. Use code -98 if a county is not in a facility-based assessment area.
5 | BRANCH_IND | String | Branch indicator | 1 if there is a branch in this facility-based assessment area; 0 if otherwise.
6 | MO_IND | String | Main office indicator | 1 if the main office is in this facility-based assessment area; 0 if otherwise.
7 | DEPOSITATM_IND | String | Deposit-taking ATM indicator | 1 if there is a deposit-taking ATM in this facility-based assessment area; 0 if otherwise.
8 | NONBRANCH_DEPFAC_IND | String | Indicator for non-branch deposit-taking facility other than ATM | 1 if there is a non-branch deposit-taking facility that is not an ATM; 0 if otherwise.
9 | QUARTERYEAR | Alpha-numeric | Quarter-end/year | Specify date of data snapshot, e.g., as reported on Q4 call report. Q1YYYY if Jan 1-March 30 of YYYY; Q2YYYY if April 1-June 30 of YYYY; Q3YYYY if July 1-Sept 30 of YYYY; or Q4YYYY if Oct 1-Dec 31 of YYYY.
10 | DEPOSITS | Numeric | Quarter-end total retail domestic deposits received from the county in dollars | County should be assigned based on the depositor's physical home address; Reported in thousands of dollars.

Total Qualifying Activities

As discussed in the final rule and this information collection, the dollar value of a bank's qualifying activities is required to determine the CRA evaluation measure under § 25.11 of the final rule, which in turn determines a bank's presumptive ratings under § 25.13 of the final rule. The following data will supplement existing data and assist the OCC.

6. Calculate and report the sum, at the county level, of the quantified dollar value of all quarter-end balances for each type of qualifying loan or CD investment held on the balance sheet. Calculate and report the sum of the quantified dollar value, at the county level, for other CD investments (i.e., CD investment funds that are quantified under § 25.07(d)(3) of the final rule and monetary and in-kind donations) and CD services made or provided in each quarter. For each activity, determine the county pursuant to § 25.24 of the final rule. Note that the quantified dollar value does not include multipliers. The OCC will apply the multipliers, where feasible and as applicable. Exclude any retail loans sold within 365 days of origination by the bank. Qualifying activity means an activity that meets the criteria in § 25.04 of the final rule. Qualifying activities include qualifying loans, CD investments, and CD services. Qualifying loan means a retail loan, as defined in § 25.03 of the final rule, that meets the criteria in § 25.04(b) of the final rule or a CD loan, as defined in § 25.03 of the final rule. Section 25.03 of the final rule defines a retail loan as a home mortgage loan, small loan to a business, small loan to a farm, or consumer loan; each of these loans is defined in § 25.03 of the final rule. In particular, “consumer loan” means a loan reported on the Call Report, Schedule RC-C, Loans and Lease Financing Receivables, Part 1, Item 6, Loans to individuals for household, family, and other personal expenditures other than overdraft plans, that is an automobile loan, other revolving credit plan, or other consumer loan; credit cards are not included. CD investments and CD services are also defined in § 25.03 of the final rule. Section 25.07 of the final rule provides information on how to calculate the quantified dollar value of qualifying activities. The quantified dollar value of a partially qualifying activity includes only the portion of the activity that is qualifying. Qualifying activities should be attributed to locations based on § 25.24 of the final rule, which provides information on how to determine a qualifying activity's location. For example, § 25.24(b) of the final rule requires banks to allocate credit for CD activities in two ways: (1) To an assessment area within a broader area served by an activity if the bank can document the services or funding it provided was allocated to a particular project that is within or serves the assessment area; or if that cannot be documented (2) across all of the areas served by the activity, according to the share of the bank's deposits in those areas, treating the bank's deposits in the region served by the activity as if they were all of the bank's deposits.

7. Calculate and report the sum, at the county level, of the quantified dollar value of all quarter-end balances for each type of retail loan generated by branches in LMI tracts.⁷

⁷ For purposes of this information collection, a retail loan is “generated by [a] branch” if that loan is originated by employees of the bank or reasonably assigned to that branch according a bank's internal procedures.

8. For Table 1, Columns 11-14 and 27-30, please include the mortgage and consumer loans only if the borrower income status is available or the loan is located in Indian country or other tribal and native lands.

9. Are there burdens associated with collecting or reporting the data described in this section of this information collection?

Table 1, Columns 11-51—The Quarter-End Quantified Dollar Value of Qualifying Activities by County, Quarter
Column | Data name | Format | Data definition | Comments
11 | MTG_BAL | Numeric | Quarter-end, county-level sum of the quantified dollar value of balances of qualifying home mortgages, excluding those sold within 365 days of origination by the bank | Reported in thousands of dollars.
12 | AUTO_BAL | Numeric | Quarter-end, county-level sum of the quantified dollar value of balances of qualifying auto loans, excluding those sold within 365 days of origination by the bank | Reported in thousands of dollars.
13 | OTHER_RCP_BAL | Numeric | Quarter-end, county-level sum of the quantified dollar value of balances of qualifying other revolving credit plans, excluding other revolving credit plans sold within 365 days of origination by the bank and any overdraft plans | Reported in thousands of dollars.
14 | OTHER_CONS_BAL | Numeric | Quarter-end, county-level sum of the quantified dollar value of balances of qualifying other consumer loans, excluding other consumer loans sold within 365 days of origination by the bank and any credit cards or overdrafts | Reported in thousands of dollars.
15 | BUS_BAL1_LMITRACT | Numeric | Quarter-end, county-level sum of the quantified dollar value of balances of qualifying loans up to $1 million to businesses in LMI census tracts, Indian country, or other tribal and native lands that are not counted as CD loans and not sold within 365 days of origination by the bank | Reported in thousands of dollars.
16 | BUS_BAL2_LMITRACT | Numeric | Quarter-end, county-level sum of the quantified dollar value of balances of qualifying loans above $1 million and up to $1.6 million to businesses in LMI census tracts, Indian country, or other tribal and native lands that are not counted as CD loans and not sold within 365 days of origination by the bank | Reported in thousands of dollars.
17 | FARM_BAL1_LMITRACT | Numeric | Quarter-end, county-level sum of the quantified dollar value of balances of qualifying loans up to $500,000 to farms in LMI census tracts, Indian country, or other tribal and native lands that are not counted as CD loans and not sold within 365 days of origination by the bank | Reported in thousands of dollars.
18 | FARM_BAL2_LMITRACT | Numeric | Quarter-end, county-level sum of the quantified dollar value of balances of qualifying loans above $500,000 and up to $1.6 million to farms in LMI census tracts, Indian country, or other tribal and native lands that are not counted as CD loans and not sold within 365 days of origination by the bank | Reported in thousands of dollars.
19 | SBUS1_BAL1_NON_LMITRACT | Numeric | Quarter-end, county-level sum of the quantified dollar value of balances of qualifying loans up to $1 million to businesses with revenues of up to $1 million in non-LMI census tracts and not in Indian country and not in other tribal and native lands that are not counted as CD loans and not sold within 365 days of origination by the bank | Reported in thousands of dollars.
20 | SBUS2_BAL1_NON_LMITRACT | Numeric | Quarter-end, county-level sum of the quantified dollar value of balances of qualifying loans up to $1 million to businesses with revenues above $1 million and up to $1.6 million in non-LMI census tracts and not in Indian country and not in other tribal and native lands that are not counted as CD loans and not sold within 365 days of origination by the bank | Reported in thousands of dollars.
21 | SBUS1_BAL2_NON_LMITRACT | Numeric | Quarter-end, county-level sum of the quantified dollar value of balances of qualifying loans above $1 million and up to $1.6 million to businesses with revenues of up to $1 million in non-LMI census tracts and not in Indian country and not in other tribal and native lands that are not counted as CD loans and not sold within 365 days of origination by the bank | Reported in thousands of dollars.
22 | SBUS2_BAL2_NON_LMITRACT | Numeric | Quarter-end, county-level sum of the quantified dollar value of balances of qualifying loans of above $1 million and up to $1.6 million to businesses with revenues above $1 million and up $1.6 million in non-LMI census tracts and not in Indian country and not in other tribal and native lands that are not counted as CD loans and not sold within 365 days of origination by the bank | Reported in thousands of dollars.
23 | SFARM1_BAL1_NON_LMITRACT | Numeric | Quarter-end, county-level sum of the quantified dollar value of balances of qualifying loans up to $500,000 to farms with revenues up to $1 million in non-LMI census tracts and not in Indian country and not in other tribal and native lands that are not counted as CD loans and not sold within 365 days of origination by the bank | Reported in thousands of dollars.
24 | SFARM2_BAL1_NON_LMITRACT | Numeric | Quarter-end, county-level sum of the quantified dollar value of balances of qualifying loans up to $500,000 to farms with revenues above $1 million and up to $1.6 million in non-LMI census tracts and not in Indian country and not in other tribal and native lands that are not counted as CD loans and not sold within 365 days of origination by the bank | Reported in thousands of dollars.
25 | SFARM1_BAL2_NON_LMITRACT | Numeric | Quarter-end, county-level sum of the quantified dollar value of balances of qualifying loans above $500,000 and up to $1.6 million to farms with revenues up to $1 million in non-LMI census tracts and not in Indian country and not in other tribal and native lands that are not counted as CD loans and not sold within 365 days of origination by the bank | Reported in thousands of dollars.
26 | SFARM2_BAL2_NON_LMITRACT | Numeric | Quarter-end, county-level sum of the quantified dollar value of balances of qualifying loans above $500,000 and up to $1.6 million to farms with revenues above $1 million and up to $1.6 million in non-LMI census tracts and not in Indian country and not in other tribal and native lands that are not counted as CD loans and not sold within 365 days of origination by the bank | Reported in thousands of dollars.
27 | MTG_BAL_LMIBR | Numeric | Quarter-end, county-level sum of the quantified dollar value of retail loan balances reported in column 11 where the loan originations were generated by branches in LMI census tracts | Reported in thousands of dollars.
28 | AUTO_BAL_LMIBR | Numeric | Quarter-end, county-level sum of the quantified dollar value of retail loan balances reported in column 12 where the loan originations were generated by branches in LMI census tracts | Reported in thousands of dollars.
29 | OTHER_RCP_BAL_LMIBR | Numeric | Quarter-end, county-level sum of the quantified dollar value of retail loan balances reported in column 13 where the loan originations were generated by branches in LMI census tracts | Reported in thousands of dollars.
30 | OTHER_CONS_BAL_LMIBR | Numeric | Quarter-end, county-level sum of the quantified dollar value of retail loan balances reported in column 14 where the loan originations were generated by branches in LMI census tracts | Reported in thousands of dollars.
31 | BUS_BAL1_LMITRACT_LMIBR | Numeric | Quarter-end, county-level sum of the quantified dollar value of retail loan balances reported in column 15 where the loan originations were generated by branches in LMI census tracts | Reported in thousands of dollars.
32 | BUS_BAL2_LMITRACT_LMIBR | Numeric | Quarter-end, county-level sum of the quantified dollar value of retail loan balances reported in column 16 where the loan originations were generated by branches in LMI census tracts | Reported in thousands of dollars.
33 | FARM_BAL1_LMITRACT_LMIBR | Numeric | Quarter-end, county-level sum of the quantified dollar value of retail loan balances reported in column 17 where the loan originations were generated by branches in LMI census tracts | Reported in thousands of dollars.
34 | FARM_BAL2_LMITRACT_LMIBR | Numeric | Quarter-end, county-level sum of the quantified dollar value of retail loan balances reported in column 18 where the loan originations were generated by branches in LMI census tracts | Reported in thousands of dollars.
35 | SBUS1_BAL1_NON_LMITRACT_LMIBR | Numeric | Quarter-end, county-level sum of the quantified dollar value of retail loan balances reported in column 19 where the loan originations were generated by branches in LMI census tracts | Reported in thousands of dollars.
36 | SBUS2_BAL1_NON_LMITRACT_LMIBR | Numeric | Quarter-end, county-level sum of the quantified dollar value of retail loan balances reported in column 20 where the loan originations were generated by branches in LMI census tracts | Reported in thousands of dollars.
37 | SBUS1_BAL2_NON_LMITRACT_LMIBR | Numeric | Quarter-end, county-level sum of the quantified dollar value of retail loan balances reported in column 21 where the loan originations were generated by branches in LMI census tracts | Reported in thousands of dollars.
38 | SBUS2_BAL2_NON_LMITRACT_LMIBR | Numeric | Quarter-end, county-level sum of the quantified dollar value of retail loan balances reported in column 22 where the loan originations were generated by branches in LMI census tracts | Reported in thousands of dollars.
39 | SFARM1_BAL1_NON_LMITRACT_LMIBR | Numeric | Quarter-end, county-level sum of the quantified dollar value of retail loan balances reported in column 23 where the loan originations were generated by branches in LMI census tracts | Reported in thousands of dollars.
40 | SFARM2_BAL1_NON_LMITRACT_LMIBR | Numeric | Quarter-end, county-level sum of the quantified dollar value of retail loan balances reported in column 24 where the loan originations were generated by branches in LMI census tracts | Reported in thousands of dollars.
41 | SFARM1_BAL2_NON_LMITRACT_LMIBR | Numeric | Quarter-end, county-level sum of the quantified dollar value of retail loan balances reported in column 25 where the loan originations were generated by branches in LMI census tracts | Reported in thousands of dollars.
42 | SFARM2_BAL2_NON_LMITRACT_LMIBR | Numeric | Quarter-end, county-level sum of the quantified dollar value of retail loan balances reported in column 26 where the loan originations were generated by branches in LMI census tracts | Reported in thousands of dollars.
43 | CDLOAN_MINORITY_BAL | Numeric | Quarter-end, county-level sum of the quantified dollar value of balances of CD loans provided to or that support minority depository institutions, women's depository institutions, CDFIs, low-income credit unions and other affordable housing-related CD loans | Reported in thousands of dollars.
44 | CDLOAN_OTHER_BAL | Numeric | Quarter-end, county-level sum of the quantified dollar value of balances of CD loans other than those captured in column 43 | Reported in thousands of dollars.
45 | CDINVT_BAL | Numeric | Quarter-end, county-level sum of the quantified dollar value of balances of CD investments held on balance sheet, excluding mortgage-backed securities and municipal bonds | Reported in thousands of dollars.
46 | MBS_BAL | Numeric | Quarter-end, county-level sum of the quantified dollar value of balances of qualifying mortgage backed securities | Reported in thousands of dollars.
47 | MUNI_BAL | Numeric | Quarter-end, county-level sum of the quantified dollar value of balances of qualifying municipal bonds | Reported in thousands of dollars.
48 | CDINVTFUND_BAL | Numeric | Quarter-end, county-level sum of the quantified dollar value of community development investment funds that are syndicated or sponsored by the bank for the purpose of obtaining financing from other investors and support one or more projects that are eligible for low-income housing tax credits or new markets tax credits (exclude the portion of the syndication on the bank's balance sheet and report in the appropriate column above) | Reported in thousands of dollars.
49 | CDSERV_BAL | Numeric | County-level sum of CD services performed during the quarter | Reported in thousands of dollars.
50 | DONATION_MINORITY_BAL | Numeric | County-level sum of qualifying monetary or in-kind donations provided to or that support minority depository institutions, women's depository institutions, CDFIs, low-income credit unions | Reported in thousands of dollars.
51 | DONATION_OTHER_BAL | Numeric | County-level sum of qualifying monetary or in-kind donations other than those captured in column 50 | Reported in thousands of dollars.
Note: For the qualifying activities, report the county-level quantified dollar value of the balances for each type of activity below. Only calculate the dollar value of qualifying retail loans not originated and sold within 365 days.

10. For Table 1, Columns 52 -59, please include the mortgage and consumer loans only if the borrower income status is not available and the loan is not located in Indian country or other tribal and native lands. For these loans, use the tract income level as a proxy to determine whether the retail loan is qualifying.

11. Calculate and report the sum, at the county level, of the quantified dollar value of all quarter-end balances for these mortgage and consumer loans that are generated by branches in LMI tracts.

Table 1—Columns 52-59—The Quarter-End Quantified Dollar Value of Qualifying Activities by County, Quarter
Column | Data name | Format | Data definition | Comments
52 | MTG_TI_BAL | Numeric | Quarter-end, county-level sum of the quantified dollar value of balances of qualifying home mortgages, where mortgages are assumed to qualify based on tract income, excluding those sold within 365 days of origination by the bank | Reported in thousands of dollars.
53 | AUTO_TI_BAL | Numeric | Quarter-end, county-level sum of the quantified dollar value of balances of qualifying auto loans, where auto loans are assumed to qualify based on tract income, excluding those sold within 365 days of origination by the bank | Reported in thousands of dollars.
54 | OTHER_RCP_TI_BAL | Numeric | Quarter-end, county-level sum of the quantified dollar value of balances of qualifying other revolving credit plans, where other revolving credit plans are assumed to qualify based on tract income, excluding other revolving credit plans sold within 365 days of origination by the bank and any overdraft plans | Reported in thousands of dollars.
55 | OTHER_CONS_TI_BAL | Numeric | Quarter-end, county-level sum of the quantified dollar value of balances of qualifying other consumer loans, where other consumer loans are assumed to qualify based on tract income, excluding other consumer loans sold within 365 days of origination by bank and any credit cards or overdrafts | Reported in thousands of dollars.
56 | MTG_TI_BAL_LMIBR | Numeric | Quarter-end, county-level sum of the quantified dollar value of retail loan balances reported in column 52 that are generated by branches in LMI census tracts | Reported in thousands of dollars.
57 | AUTO_TI_BAL_LMIBR | Numeric | Quarter-end, county-level sum of the quantified dollar value of retail loan balances reported in column 53 that are generated by branches in LMI census tracts | Reported in thousands of dollars.
58 | OTHER_RCP_TI_BAL_LMIBR | Numeric | Quarter-end, county-level sum of the quantified dollar value of retail loan balances reported in column 54 that are generated by branches in LMI census tracts | Reported in thousands of dollars.
59 | OTHER_CONS_TI_BAL_LMIBR | Numeric | Quarter-end, county-level sum of the quantified dollar value of retail loan balances reported in column 55 that are generated by branches in LMI census tracts | Reported in thousands of dollars.

Applications and Loan Originations for Each Retail Lending Product Line

As discussed in the final rule, the quantified dollar value is required to determine the CRA evaluation measure under § 25.11 of the final rule. Additionally, the loan volume of a bank's qualifying activities is required for the retail lending distribution tests under § 25.12 of the final rule. Both the CRA evaluation measure and the retail lending distribution tests will in turn help determine a bank's presumptive ratings under § 25.13 of the final rule. Obtaining information on retail loan applications and originations will, in the near term, help inform the OCC about banks' credit supply decisions across geographies, supplement existing data, and assist the OCC in assessing the CRA evaluation measure under § 25.11 of the final rule and the retail lending distribution tests under § 25.12 of the final rule. Over time, it will assist the OCC in further developing its thinking on how to refine and improve the CRA framework.⁸

⁸ See various studies using application information to understand credit supply such as: Antoniades, A. (2016. “). Liquidity Risk and the Credit Crunch of 2007-2008: Evidence from Micro-Level Data on Mortgage Loan Applications.”. Journal of Financial and Quantitative Analysis, 51(6):), 1795-1822; and Mian, Atif, and Amir Sufi. 2009. “The Consequences of Mortgage Credit Expansion: Evidence from the U.S. Mortgage Default Crisis.”,” The Quarterly Journal of Economics, Volume 124(, Issue 4):, November 2009, Pages 1449-1496; Puri, Manju, Jorg Rocholl, and Sascha Steffen. (2011. “) Global retail lending in the aftermath of the US financial crisis: Distinguishing between supply and demand effects.”, Journal of Financial Economics 100(3):) 556-578.

12. Report all retail loans applications.

13. For each retail loan origination, provide the unique loan identification number.

14. For each retail loan application, provide the following geographic information for the location of the loan application at the time of submission: County, MD/MSA, state, census tract, and the facility-based or deposit-based assessment area number (using the same set of unique assessment area identification numbers as in Table 1). The location of a loan application should be determined in a manner consistent with § 25.24 of the final rule. For example, the location of an application for a home mortgage loan would be determined by the address of the property to which the loan relates.

15. For each retail loan application, provide the loan type, and if the loan was originated, provide balance at origination, origination date, and sell date.

16. For each mortgage and consumer loan application, provide the income of the applicant(s). For each loan application for a home mortgage or consumer loan, indicate the LMI status of the applicant. For each loan application from a business or farm, provide the revenue of the business or farm at the time of submission; additionally, for these loan applications, provide an indicator of the business or farm's revenue category.

17. For each retail loan origination, indicate whether the loan was generated by a branch located in an LMI census tract.

18. Are there burdens associated with collecting or reporting the data described in this section of this information collection?

Table 2—Full List of Retail Loan Applications and Originations
Column | Data name | Format | Data definition | Comments
1 | LOAN_ID | String | Loan ID | Provide Universal Loan Identifier (ULI) if the loan was originated, and where available.
2 | COUNTY | String | County FIPS | County FIPS code (3-digit), e.g., report 201 if Harris County, TX.
3 | MD_MSA | String | MD/MSA | MD/MSA code (5-digit), e.g., report 26420 if Houston-The Woodlands-Sugar Land, TX.
4 | STATE | String | State FIPS | State FIPS code (2-digit), e.g., report 48 if Harris County, TX.
5 | TRACT | String | Census tract | Tract FIPS code (6-digit), e.g., report 223100 if Census Tract 2231 in Harris County, TX.
6 | AA_ID | String | Facility-based or deposit-based assessment area number | Numeric indicator, created by the bank, that uniquely identifies each facility-based or deposit-based assessment area. Use code -98 if a loan is not within a facility-based or deposit-based assessment area.
7 | LOAN_TYPE | String | Loan type | 1: Mortgage; 2: Other revolving credit plan; 3: Auto; 4: Other consumer loan; 5: Small loan to a business; 6: Small loan to a farm.
8 | ACTION_TYPE | String | Loan decision | 0: Loan not originated; 1: Loan originated.
9 | ORIG_BAL | Numeric | Balance at origination | Reported in thousands of dollars. Use code -98 if the loan was not originated.
10 | APPL_DATE | String | Application Date | MMDDYYYY
11 | ORIG_DATE | String | Origination date | MMDDYYYY. Use code -98 if the loan was not originated.
12 | SELL_DATE | String | Sell date | MMDDYYYY. Use code -98 if the loan was not originated or if the loan was not sold.
12 | INCOME | Numeric | Income of the applicant(s) | Use income of the applicant(s) that would be used to determine LMI status. Reported in thousands of dollars. Use code -98 if the bank does not have the applicant's income, or not applicable.
13 | LMIBR_IND | String | LMI branch indicator | 1 if the loan origination or application was generated by a branch that is located in an LMI census tract; 0 otherwise.
14 | REVENUE | Numeric | Revenue of business or farm | Use code -98 if not applicable (i.e., not a business or farm). Use code -98 if the bank does not have the revenue of the business or farm. Reported in thousands of dollars.
15 | REVENUE_IND | String | Revenue indicators of the business or farm | 1 if revenue of the business or farm is less than $500,000. 2 if the revenue of the business or farm is between $500,000 and $1,000,000. 3 if the revenue of the business or farm is greater than $1,000,000 and less than or equal to $1,600,000. 4 if the revenue of the business or farm is over $1,600,000. Use code -99 if unknown. Use code -98 if not applicable (i.e., not a business or farm).
16 | LMI_IND | String | LMI indicator for the applicant | 0 if the applicant is not LMI. 1 if the applicant is LMI. Use code -99 if unknown. Use code -98 if not applicable (i.e., not an application for a home mortgage or consumer loan).

Branch Locations

As discussed in the final rule, the percentage of a bank's branches located in or that serve LMI census tracts, distressed areas, underserved areas, and Indian country or other tribal and native lands is required to determine the CRA evaluation measure under § 25.11 of the final rule, which is considered in determining a bank's presumptive ratings under § 25.13 of the final rule.

19. Report the unique number of the branch, as used in the Summary of Deposits file, for the full list of branches on the last day of each year.

20. Using the same set of unique assessment area IDs as in Table 1, identify the facility-based assessment area for each branch.

21. Report the address, as well as the census tract, county, MSA/MD, and state FIPS codes, for each branch.

22. Report the year that the branch is associated with, as mentioned in Question 19. Note that the same branch will have an entry for each year for which it is open on the last day of the year.

23. Are there burdens associated with collecting or reporting the data described in this section of this information collection?

Table 3—Full List of Branches at Year-End
Column | Data name | Format | Data definition | Comments
1 | UNINUMBR | String | Unique number | Unique number used in the Summary of Deposits file.
2 | AA_ID | String | Facility-based assessment area number | Numeric indicator, created by the bank, that uniquely identifies each facility-based assessment area. Use code -98 if the loan is not within a facility-based assessment area.
3 | BR_STREET | String | Street | Street should be based on branch's physical location, e.g., report 400 7th St. SW if 400 7th St. SW, Washington, DC 20219.
4 | BR_CITY | String | City | City should be based on branch's physical location, e.g., report Washington if 400 7th St. SW, Washington, DC 20219.
5 | BR_STATE | String | State abbreviation | State abbreviation (2-letter) should be based on branch's physical location, e.g., report DC if 400 7th St. SW, Washington, DC 20219.
6 | BR_ZIP | String | Zip code | Zip code (5-digit) should be based on branch's physical location, e.g., report 20219 if 400 7th St. SW, Washington, DC 20219.
7 | TRACT | String | Census tract | Tract FIPS code (6-digit), e.g., report 223100 if Census Tract 2231 in Harris County, TX.
8 | COUNTY | String | County | County FIPS code (3-digit), e.g., report 201 if Harris County, TX.
9 | MD_MSA | String | MD/MSA | MD/MSA code (5-digit), e.g., report 26420 if Houston-The Woodlands-Sugar Land, TX.
10 | STATE | String | State | State FIPS code (2-digit), e.g., report 48 if Harris County, TX.
11 | YEAR | String | Year | 20XX.

Burden Estimates

Estimated Number of Respondents: 105.

Estimated Annual Burden: 146,000 hours.

Comments submitted in response to this notice will be summarized and included in the request for OMB approval. All comments will become a matter of public record. Comments are invited on:

(a) Whether the collection of information is necessary for the proper performance of the functions of the OCC, including whether the information has practical utility; (b) The accuracy of the OCC's estimate of the information collection burden; (c) Ways to enhance the quality, utility, and clarity of the information to be collected; (d) Ways to minimize the burden of the collection on respondents, including through the use of automated collection techniques or other forms of information technology; and

(e) Estimates of capital or start-up costs and costs of operation, maintenance, and purchase of services to provide information.

Bao Nguyen,
Principal Deputy Chief Counsel, Office of the Comptroller of the Currency.

[FR Doc. 2020-27524 Filed 12-14-20; 8:45 am]

BILLING CODE 4810-33-P